NATIONAL COUNCIL ON DISABILITY

International Watch Advisory Committee Meetings (Conference Calls)

Agency: National Council on Disability (NCD).

Time and Dates: 12 noon, Eastern Time, November 2, 2006; January 4, 2007; March 1, 2007; May 3, 2007; July 5, 2007; September 6, 2007.

Place: National Council on Disability, 1331 F Street, NW., Suite 850, Washington, DC.

Status: All parts of these conference calls will be open to the public. Those interested in participating on conference calls should contact the appropriate staff member listed below. Due to limited resources, only a few telephone lines will be available for each conference call.

Agendas: Roll call, announcements, overview of accomplishments, planning, reports, new business, adjournment.

Contact Person for More Information: Joan M. Durocher, Senior Attorney Advisor and Designated Federal Official, National Council on Disability, 1331 F Street NW., Suite 850, Washington, DC 20004; 202-272-2004 (voice), 202-272-2074 (TTY), 202-272-2022 (fax), jdurocher@ncd.gov (e-mail).

Accommodations: Those needing reasonable accommodations should notify NCD at least two weeks before this meeting.

International Watch Advisory Committee Mission: The purpose of NCD's International Watch is to share information on international disability issues and to advise NCD on developing policy proposals that will advocate for a foreign policy that is consistent with the values and goals of the Americans with Disabilities Act.

Language Translation: In accordance with E.O. 13166, Improving Access to Services for Persons with Limited English Proficiency, those people with disabilities who are limited English proficient and seek translation services for this meeting should notify NCD at least two weeks before this meeting.

Dated: August 24, 2006.
Mark S. Quigley,
Acting Executive Director and Director of Communications.

[FR Doc. E6-14492 Filed 8-30-06; 8:45 am]

BILLING CODE 6820-MA-P